DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than May 11, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Nurse Corps Scholarship Program. OMB No. 0915-0301—Revision.

Abstract: The Nurse Corps Scholarship Program (Nurse Corps SP) is a competitive federal program, which awards scholarships to individuals to attend accredited schools of nursing. The Bureau of Health Workforce (BHW) in HRSA administers the program. The scholarship consists of payment of tuition, fees, other reasonable educational costs, and a monthly support stipend. In return, the students agree to provide a minimum of 2 years of full-time clinical service (or an equivalent part-time commitment, as approved by the Nurse Corps SP) at a health care facility with a critical shortage of nurses as defined by the program. Nurse Corps SP recipients must be willing to (and are required to) fulfill their Nurse Corps SP service commitment at a health care facility with a critical shortage of nurses in the United States as well as the District of Columbia, Guam, the Commonwealth of Puerto Rico, the Northern Mariana Islands, the U.S. Virgin Islands, American Samoa, the Federated States of Micronesia, the Republic of the Marshall Islands, and the Republic of Palau.

Students who are uncertain of their commitment to provide nursing care in a health care facility with a critical shortage of nurses in the United States or these territories are advised not to participate in the program.

Need and Proposed Use of the Information: The Nurse Corps SP needs to collect data to determine an applicant's eligibility for the program, to monitor a participant's continued enrollment in a school of nursing, to monitor the participant's compliance with the Nurse Corps SP service obligation, and to obtain data on its program to ensure compliance with statutory mandates and prepare annual reports to Congress. The following information will be collected: (1) From the applicants and/or the schools—general applicant and nursing school data such as full name, location, tuition/fees, and enrollment status; (2) from the schools, on an annual basis—data concerning tuition/fees and student enrollment status; and (3) from the participants and their health care facilities with a critical shortage of nurses, on a biannual basis—data concerning the participant's employment status, work schedule, and leave usage. BHW enters the cost information into its data system, along with the projected amount for the monthly stipend, to determine the amount of each scholarship award.

Likely Respondents: Nurse Corps SP scholars in school, graduates, educational institutions, and critical shortage facility employers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Eligible Applications/Application Program Guidance | 2,600 | 1 | 2,600 | 2 | 5,200
School Enrollment Verification Form | 500 | 4 | 2,000 | 20/60 | 667
Confirmation of Interest Form | 250 | 1 | 250 | 12/60 | 50
DCW Form | 500 | 1 | 500 | 1 | 500
Graduation Close Out Form | 200 | 1 | 200 | 10/60 | 33
Initial Employment Verification Form | 500 | 1 | 500 | 25/60 | 208
Service Verification Form—Employer | 500 | 2 | 1,000 | 8/60 | 133
Service Verification Form—Participant | 500 | 2 | 1,000 | 6/60 | 100
Total |  |  |  |  | 6,891

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-08285 Filed 4-9-15; 8:45 am]

BILLING CODE 4165-15-P